DEPARTMENT OF ENERGY

Federal Energy Regulatory Commission

[Docket No. CP00-140-000]

Black Marlin Pipeline Company, WBI Offshore Pipeline, Inc.; MCNIC Black Marlin Offshore Company; Notice of Joint Application

March 31, 2000.

Take notice that on March 28, 2000, Black Marlin Pipeline Company (Black Marlin), 801 Travis, Suite 2100, Houston, Texas 77002, WBI Offshore Pipeline, Inc. (WBI), 1250 West Century Avenue, Bismarck, North Dakota 58501, and MCNIC Black Marlin Offshore Company (MCNIC), 1360 Post Oak Blvd., Suite 1500, Houston, Texas 77056 filed in Docket No. CP00-140-000 a joint application pursuant to Sections 7(c) and 7(b) of the Natural Gas Act (NGA) and Part 157 of the Commission's regulations for a certificate of public convenience and necessity reflecting WBI's and MCNIC's acquisition of one-sixth and one-third, respectively, of the undivided assets of the previously certificated Black Marlin facilities, and authorizing WBI and MCNIC to continue to use the facilities to transport natural gas under Black Marlin's existing tariff and authorizing Black Marlin to abandon by transfer the aforementioned interests to WBI and MCNIC all as more fully set forth in the application which is on file with the Commission and open to public inspection. The filing may be viewed at http://www.ferc.fed.us/online/rims.htm (call 202-208-2222 for assistance).

Any questions regarding the application should be directed to Robert T. Hall, Thelen Reid & Priest LLP, 701 Pennsylvania Avenue, NW, Washington, DC 20004, (202) 508-4000.

The applicants state that on March 1, 1999, Blue Dolphin Energy Company, through its wholly-owned subsidiary Black Marlin Energy Company, acquired 100% of the issued and outstanding stock of Black Marlin from Enron Pipeline Company. They aver that the transaction was a stock transfer not subject to Commission approval under Section of the NGA.

They also state that on March 1, 1999, WBI Southern, Inc., acquired from Black Marlin a one-sixth undivided interest in the Black Marlin Pipeline assets for a cash purchase price of $916,212. WBI Southern, Inc., has since created a wholly owned subsidiary, WBI Offshore Pipeline, Inc., and effective March 1, 1999, contemporaneous with the acquisition of the Black Marlin Pipeline assets, has assigned the Black Marlin Pipeline assets to WBI Offshore Pipeline, Inc.

In a concurrent transaction, the applicants state that MCNIC Offshore Pipeline & Processing Company acquired from Black Marlin a one-third undivided interest in the Black Marlin Pipeline assets for a cash purchase price of $1,801,424, plus the reimbursement to Black Marlin of certain out-of-pocket expenses in the amount of $31,000. MCNIC Offhore Pipeline & Processing Company has since created a wholly owned subsidiary, MCNIC Black Marlin Offshore Company, and effective March 1, 1999, contemporaneous with the acquisition of the Black Marlin Pipeline assets, has assigned those assets to MCNIC Black Marlin Offshore Company.

Finally, the applicants state that simultaneously with the transactions described above, Black Marlin, MCNIC, and WBI entered into (i) an Operating Agreement concerning the operation of the Black Marlin Pipeline pursuant to which Black Marlin was appointed the operator, and (ii) a Purchase Rights and Participation Agreement restricting the assignability of an interest in the assets of the Black Marlin Pipeline and the stock of the parties.

The applicants state that approval of the application will have no affect on the rates, operations, or tariff of Black Marlin. They aver that the sole purpose of the application is to have authorized by abandonment the transfer of an undivided interest in assets from Black Marlin to WBI and MCNIC.

Any person desiring to participate in the hearing process or to make any protest with reference to said application should on or before April 21, 2000, file with the Federal Energy Regulatory Commission, Washington, DC 20426, a motion to intervene or a protest in accordance with the requirements of the Commission's Rules of Practice and Procedure (18 CFR 385.214 or 385.211) and the Regulations under the NGA (18 CFR 157.10). All protests filed with the Commission will be considered by it in determining the appropriate action to be taken but will not serve to make the protestants parties to the proceeding. The Commission's rules require that protestors provide copies of their protests to the party or parties directly involved. Any person wishing to become a party to a proceeding or to participate as a party in any hearing therein must file a motion to intervene in accordance with the Commission's Rules.

Take further notice that, pursuant to the authority contained in and subject to the jurisdiction conferred upon the Federal Energy Regulatory Commission by Sections 7 and 15 of the NGA and the Commission's Rules of Practice and Procedure, a hearing will be held without further notice before the Commission or its designee on this application if no motion to intervene is filed within the time required herein, if the Commission on its own review of the matter finds that a grant of the certificate is required by the public convenience and necessity. If a motion for leave to intervene is timely filed, or if the Commission on its own motion believes that a formal hearing is required, further notice of such hearing will be duly given.

Under the procedure provided for, unless otherwise advised, it will be unnecessary for Black Marlin, WBI, or MCNIC to appear or be represented at the hearing.

Linwood A. Watson, Jr.,
Acting Secretary.

[FR Doc. 00-8468 Filed 4-5-00; 8:45 am]

BILLING CODE 6717-01-M